DEPARTMENT OF COMMERCE

Bureau of the Census

2020 Census Tribal Consultation; Virtual Public Meeting

AGENCY: Bureau of the Census, Department of Commerce.

ACTION: Notice of virtual public meeting.

SUMMARY: The Bureau of the Census (Census Bureau) will conduct a 2020 Census Disclosure Avoidance System (DAS) tribal consultation meeting on May 19, 2021, via a national webinar. The tribal consultation meeting reflects the Census Bureau's continuous commitment to strengthen government-to-government relationships with federally recognized tribes. The Census Bureau's procedures for outreach, notice, and consultation ensure involvement of tribes, to the extent practicable and permitted by law, before making decisions or implementing policies, rules, or programs that affect federally recognized tribal governments. These meetings are open to citizens of federally recognized tribes by invitation.

DATES: The Census Bureau will conduct the tribal consultation webinar on Wednesday, May 19, 2021, from 3:00 p.m. to 4:30 p.m. EDT. Any questions or topics to be considered in the tribal consultation meetings must be received in writing via email by Monday, May 17, 2021.

ADDRESSES: The Census Bureau tribal consultation webinar meeting will be held via the WebEx platform at the following presentation link: https://uscensus.webex.com/uscensus/onstage/g.php?MTID=eb7bb8735ddcf8a4debfd568ee4591082.

If the webinar requires a WebEx Event number, type: 199 367 3090. If the webinar requires a password, type: @Census1.

For audio, please call the following number: 1-888-972-4304 or 1-312-470-7164. When prompted, please use the following Participant Code: 4071470. For 1-way listen only computer audio, please click the Audio Broadcast button in WebEx. If it does not connect, please use the telephone audio option.

Please direct all written comments via email to Dee Alexander, Tribal Affairs Coordinator, U.S. Census Bureau, at Dee.A.Alexander@census.gov or ocia.tao@census.gov.

FOR FURTHER INFORMATION CONTACT: Dee Alexander, Tribal Affairs Coordinator, Office of Congressional and Intergovernmental Affairs, Intergovernmental Affairs Office, U.S. Census Bureau, Washington, DC 20233; telephone 301-763-9335; fax 301-763-3780; or email at Dee.A.Alexander@census.gov or ocia.tao@census.gov.

SUPPLEMENTARY INFORMATION: The Census Bureau is planning one national webinar on May 19, 2021 with federally recognized tribes, which will provide a forum for tribes to receive an update on the Privacy-Protected Microdata Files (PPMFs) and Detailed Summary Metrics, to be released by April 30, 2021. The Census Bureau would like to inform the tribes of these data and to provide an opportunity for tribal input to inform final decisions about the settings and parameters of the DAS for the production run of the Public Law 94-171 redistricting data product that will be made available at the June 2021 Data Stewardship Executive Policy Committee meeting.

In accordance with Executive Order 13175, Consultation and Coordination with Indian Tribal Governments, issued November 6, 2000, the Census Bureau has adhered to its tribal consultation policy by seeking the input of tribal governments in the planning and implementation of the 2020 Census with the goal of ensuring the most accurate counts and data for the American Indian and Alaska Native population. In that regard, the Census Bureau will be seeking comments to the Upcoming Demonstration Product—PPMFs and Detailed Summary Metrics. As mentioned before, these data products will be released April 30, 2021. Tribes will have four weeks to analyze the data and provide input.

For more information, please see the following URL link: https://www.census.gov/programs-surveys/decennial-census/2020-census/planning-management/2020-census-data-products.html.

Ron S. Jarmin, Acting Director, Bureau of the Census, approved the publication of this Notice in the Federal Register.

Dated: April 14, 2021.
Sheleen Dumas,
Department PRA Clearance Officer, Office of the Chief Information Officer, Commerce Department.

[FR Doc. 2021-08060 Filed 4-19-21; 8:45 am]

BILLING CODE 3510-07-P